DEPARTMENT OF ENERGY

Federal Energy Regulatory Commission

18 CFR Part 284

[Docket No. RM08-1-000]

Enhancement of Competition in the Secondary Release Market; Notice of Extension of Time

December 14, 2007.

AGENCY: Federal Energy Regulatory Commission.

ACTION: Notice of Proposed Rulemaking: Extension of the Comment Date.

SUMMARY: On November 15, 2007, the Federal Energy Regulatory Commission issued a Notice of Proposed Rulemaking proposing revisions to its regulations governing interstate natural gas pipelines to reflect changes in the market for short-term transportation services on pipelines and to improve the efficiency of the Commission's capacity release mechanism. The date for filing comments on the proposed rule is being extended at the request of the American Gas Association, the American Public Gas Association, the Interstate Natural Gas Association of America and the Process Gas Consumers Group.

DATES: Comments are due on or before January 25, 2008.

ADDRESSES: You may submit comments, identified by docket number by any of the following methods:

• Agency Web Site: http://ferc.gov. Documents created electronically using word processing software should be filed in native applications or print-to-PDF format and not in a scanned format.

• Mail/Hand Delivery: Commenters unable to file comments electronically must mail or hand deliver an original and 14 copies of their comments to: Federal Energy Regulatory Commission, Secretary of the Commission, 888 First Street, NE., Washington, DC 20426.

FOR FURTHER INFORMATION CONTACT: Robert McLean, Office of the General Counsel, Federal Energy Regulatory Commission, 888 First Street, NE., Washington, DC 20426, Robert.McLean@ferc.gov, (202) 502-8156.

David Maranville, Office of the General Counsel, Federal Energy Regulatory Commission, 888 First Street, NE., Washington, DC 20426, David.Maranville@ferc.gov, (202) 502-6351.

SUPPLEMENTARY INFORMATION: On December 13, 2007, the American Gas Association, the American Public Gas Association, the Interstate Natural Gas Association of America, and the Process Gas Consumers Group (the Natural Gas Associations) filed a joint motion for an extension of time to file comments in response to the Commission's Notice of Proposed Rulemaking in this docket.¹ They request that the Commission extend the deadline for comments from January 10, 2008 to February 8, 2008. The motion states that the Natural Gas Associations require additional time in order to poll their members and weigh the major policy and factual issues raised in the Notice of Proposed Rulemaking.

¹ Promotion of a More Efficient Capacity Release Market, 72 FR 65,916 (November 26, 2007), 121 FERC ∥ 61,170 (2007).

Upon consideration, notice is hereby given that an extension of time for filing comments on the Notice of Proposed Rulemaking is granted to and including January 25, 2008.

Kimberly D. Bose,
Secretary.

[FR Doc. E7-25001 Filed 12-26-07; 8:45 am]

BILLING CODE 6717-01-P